ENVIRONMENTAL PROTECTION AGENCY

40 CFR Part 52

[EPA-R08-OAR-2021-0005; FRL-8683-04-Region 8]

Approval and Promulgation of Implementation Plans; North Dakota; Revisions To Permitting Regulations Unrelated to Regional Haze; Correction

AGENCY: Environmental Protection Agency (EPA).

ACTION: Proposed rule; correction.

SUMMARY: The Environmental Protection Agency (EPA) published a proposed rule in the Federal Register on August 2, 2021. The revisions contain amendments to the State of North Dakota's Air Pollution Control Regulations and to the State's Legal Authority. The August 2, 2021 published rule had the incorrect docket number. This published rule corrects the docket number for the August 2, 2021 rulemaking.

DATES: Written comments must be received on or before October 4, 2021.

ADDRESSES: Submit your comments, identified by Docket ID No. EPA-R08-OAR-2021-0005, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Kevin Leone, Air and Radiation Division, EPA, Region 8, Mailcode 8ARD-IO, 1595 Wynkoop Street, Denver, Colorado, 80202-1129, (303) 312-6227, leone.kevin@epa.gov.

SUPPLEMENTARY INFORMATION: Throughout this document wherever “we,” “us,” or “our” is used, we mean the EPA.

Correction

In FR document 86 FR 41413, appearing on page 41413 in the Federal Register on Monday, August 2, 2021, in the heading of the document and in the ADDRESSES section of the document the docket number EPA-R08-OAR-2021-0433 should have read EPA-R08-OAR-2021-0005.

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: August 25, 2021.
Debra H. Thomas,
Acting Regional Administrator, Region 8.

[FR Doc. 2021-19039 Filed 9-2-21; 8:45 am]

BILLING CODE 6560-50-P